DEPARTMENT OF HEALTH AND HUMAN SERVICES

Centers for Disease Control and Prevention

Advisory Committee to the Director, Centers for Disease Control and Prevention: Notice of Charter Renewal

This gives notice under the Federal Advisory Committee Act (Pub. L. 92-463) of October 6, 1972, that the Advisory Committee to the Director, Centers for Disease Control and Prevention, of the Department of Health and Human Services, has been renewed for a 2-year period extending through February 1, 2008.

For further information contact: Lynn Austin, Ph.D, Executive Secretary, Advisory Committee to the Director, Centers for Disease Control and Prevention, Department of Health and Human Services, 1600 Clifton Road, NE., M/S D-14, Atlanta, Georgia 30333, telephone 404-639-7000 or fax 404/498-7111.

The Director, Management and Analysis and Services Office, has been delegated the authority to sign Federal Register notices pertaining to announcements of meetings and other committee management activities for both the Centers for Disease Control and Prevention and the Agency for Toxic Substances and Disease Registry.

Dated: February 2, 2006.
Diane Allen,
Acting Director, Management Analysis and Services Office, Centers for Disease Control and Prevention.

[FR Doc. 06-1202 Filed 2-9-06; 8:45 am]

BILLING CODE 4163-18-P